FEDERAL COMMUNICATIONS COMMISSION

Notice of Public Information Collection(s) Being Reviewed by the Federal Communications Commission, Comments Requested

June 7, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 14, 2000. If you anticipate that you will be submitting comments, but find it difficult to do so within the period of time allowed by this notice, you should advise the contact listed below as soon as possible.

ADDRESSES: Direct all comments to Les Smith, Federal Communications Commission, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0607.

Title: Rates for Basic Service Tiers and Cable Programming Tiers-Section 76.922.

Form Number: n/a.

Type of Review: Extension of a currently approved collection.

Respondents: Business or other for-profit and State, Local or Tribal Government.

Number of Respondents: 2,275.

Estimated Time Per Response: Varies.

Total Annual Burden: 9,150 hours.

Total Annual Costs: $500.

Needs and Uses: The information is used by Commission staff to ensure that qualified small systems have additional incentives to add channels and that small systems are able to recover costs for headend upgrades when doing so.

OMB Control Number: 3060-0561.

Title: Assumption of Jurisdiction by the Commission.

Form Number: n/a.

Type of Review: Extension of a currently approved collection.

Respondents: State, Local or Tribal Government.

Number of Respondents: 50.

Estimated Time Per Response: 8 hours.

Total Annual Burden: 400 hours.

Total Annual Costs: $1,000.

Needs and Uses: The information collection requirements reported under this control number are used by Commission staff to identify situations where it should exercise jurisdiction over basic service and equipment rates in place of a local franchising authority.

OMB Control Number: 3060-0700.

Title: Open Video Systems Provisions

Form Number: FCC 1275.

Type of Review: Extension of a currently approved collection.

Respondents: Business or other for-profit and State, Local or Tribal Government.

Number of Respondents: 708.

Estimated Time Per Response: Varies.

Total Annual Burden: 3,910 hours.

Total Annual Costs: $9,000.

Needs and Uses: Section 302 of the Telecommunications Act of 1996 provides for specific entry options for entities wishing to enter the video programming marketplace, one option being to provide cable service over an “Open Video System” (“OVS”). On April 15, 1997, the Commission released a Fourth Report and Order, FCC 97-130, which clarified various OVS rules and modified certain OVS filing procedures.

OMB Control Number: 3060-0565.

Title: Commission Review of Franchising Authority Decisions on Rates for the Basic Service Tier and Associated Equipment—Section 76.944.

Form Number: n/a.

Type of Review: Extension of a currently approved collection.

Respondents: Business or other for-profit and State, Local or Tribal Government.

Number of Respondents: 300.

Estimated Time Per Response: Varies.

Total Annual Burden: 5,400 hours.

Total Annual Costs: $340,500.

Needs and Uses: The information collected is reviewed by the Commission to ensure that franchising authority decisions regarding cable rates are consistent with the provisions of the Cable Television Consumer Protection and Competition Act of 1992 and the Commission's rules regarding cable rate regulation. Commission review of appeals is necessary to ensure uniformity of interpretation of federal guidelines.

Federal Communications Commission.
Magalie Roman Salas,
Secretary.

[FR Doc. 00-14875 Filed 6-12-00; 8:45 am]

BILLING CODE 6712-01-U